ENVIRONMENTAL PROTECTION AGENCY

[ER-FRL-6651-6]

Environmental Impact Statements; Notice of Availability

Responsible Agency: Office of Federal Activities, General Information (202) 564-7167 or http://www.epa.gov/compliance/nepa/

Weekly receipt of Environmental Impact Statements

Filed May 10, 2004 Through May 14, 2004 Pursuant to 40 CFR 1506.9.

EIS No. 040226, Final EIS, FHW, NH, I-93 Highway Improvements, Salem to Manchester, Funding, NPDES and U.S. Army COE Section 404 Permits Issuance, Hillsborough and Rockingham Counties, NH, Wait Period Ends: June 21, 2004, Contact: William F. O'Donnell, P.E (603) 228-3057.

EIS No. 040227, Draft EIS, SFW, ME, Petit Manan National Wildlife Refuge Complex, Comprehensive Conservation Plan, Implementation, the Gulf of Maine, Comment Period Ends: July 6, 2004, Contact: Nancy McGarigal (413) 253-8562.

EIS No. 040228, Draft Supplement, FHW, AR, Springdale Northern Bypass Projects, U.S. Highway 412 Construction, Additional Information Designation of a Preferred Alternative, Funding and NPDES Permit Issuance, Benton and Washington Counties, AR, Comment Period Ends: July 10, 2004, Contact: Randal Looney (501) 324-6430.

EIS No. 040229, Final EIS, FHW, WA, I-90 Two-Way Transit and HOV Operation Project, Provision of Reliable Transportation between Seattle and Bellevue, Sound Transit Regional Express, U.S. Coast Guard and U.S. Army COE Nationwide Permits Issuance, King County, WA, Wait Period Ends: June 21, 2004, Contact: James A. Leonard (360) 753-9408.

EIS No. 040230, Final EIS, AFS, ND, Equity Oil Company Federal 32-4 and 23-21 Oil and Gas Wells Surface Use Plan of Operation (SUP0), Implementation, Located in the Bell Lake Inventoried Roadless Area (IRA), Dakota Prairie Grasslands, Medora Ranger District, Golden Valley County, ND, Wait Period Ends: June 21, 2004, Contact: Jeff Adams (701) 225-5151.

EIS No. 040231, Draft EIS, AFS, OR, Davis Fire Recovery Project, Moving Resource Conditions Closer to the Desired Conditions, Deschutes National Forest, Crescent Ranger District, Deschutes and Klamath Counties, OR, Comment Period Ends: July 6, 2004 Contact: Chris Mickle (541) 433-3216.

EIS No. 040232, Draft EIS, BIA, NY, St. Regis Mohawk Tribe, Mohawk Mountain Casino and Resort, Proposed Transfer of 66 Acres of Land into Federal Trust Status, Fee-to-Trust Acquisition, Sullivan County, NY, Comment Period Ends: July 6, 2004, Contact: Jim Kardatzke (615) 467-1675.

Amended Notices

EIS No. 040139, Draft EIS, FHW, WI, Wisconsin Highway Project, Enhance the Mobility of Motorized and Nonmotorized Travel, U.S. 18/151 (Verona Road) and the U.S. 12/14 (Beltine) Corridors, Dane County, WI, Comment Period Ends: June 8, 2004, Contact: Johnny M. Gerbitz (608) 829-7500. Revision of FR Notice Published on 4/02/2004: CEQ Comment Period Ending on 05/17/2004 has been Extended to 5/08/2004.

EIS No. 040144, Draft EIS, AFS, NV, Martin Basin Rangeland Project, Authorize Continued Livestock Grazing in Eight Allotments: Martin Basin, Indian, West Side Flat Creek, Buffalo, Bradshaw, Buttermilk, Granite Peak and Rebel Creek Cattle and Horse Allotments, Humboldt-Toiyabe National Forest, Santa Rosa Ranger District, Humboldt County, NV, Comment Period Ends: July 1, 2004, Contact: Steve Williams (775) 623-5025. Ext 112 Revision of FR Notice Published on 4/02/2004: CEQ Comment Period Ending 5/17/2004 has been Extended to 7/1/2004.

EIS No. 040156, Draft EIS, AFS, UT, Wasatch Powderbird Guides Permit Renewal, Authorization to Continue Providing Guided Helicopter Skiing Activities on National Forest System (NFS) Land on the Wasatch-Cache and Uinta National Forests, Special-Use Permit (SUP), Provo and Salt Lake City, UT, Comment Period Ends: June 7, 2004, Contact: Steve Scheid (801) 733-2689. Revision of FR Notice Published on 4/09/2004: CEQ Comment Period Ending 05/24/2004 has been Extended to 6/07/2004.

This document is available on the Internet at: http://www.fs.fed.us/r4/wcnf/projects/proposed/index.shmt1.

EIS No. 040219, Final EIS, AFS, WI, Programmatic EIS—Cheguamegon-Nicolet National Forests Revised Land and Resource Management Plan, Implementation, Ashland, Bayfield, Florence, Forest, Langlade, Oconto, Oneida, Price, Sawyer, Taylor and Vilas Counties, CA, Wait Period Ends: June 14, 2004, Contact: Sally Hess-Samuelson (715)

362-1384.

Revision of FR Notice Published on 5/14/2004: Correction to Comment Period from 06/4/2004 to 06/14/2004.

Dated: May 18, 2004.
Ken Mittelholtz,
Environmental Protection Specialist, Office of Federal Activities.

[FR Doc. 04-11564 Filed 5-20-04; 8:45 am]

BILLING CODE 6560-50-P